DEPARTMENT OF ENERGY

Federal Energy Regulatory Commission

[Docket No. CP07-14-000; BLM Reference No. 2880/UTU-82750 and WYW-67229 (EA No. UT-080-06-156)]

Wyoming Interstate Company, Ltd.; Notice of Availability of the Environmental Assessment for the Proposed Kanda Lateral and Mainline Expansion Project

March 30, 2007.

The staff of the Federal Energy Regulatory Commission (FERC or Commission), with the cooperation of the U.S. Department of Interior, Bureau of Land Management (BLM) and the Sweetwater County Conservation District, has prepared an environmental assessment (EA) on the natural gas pipeline facilities proposed by Wyoming Interstate Company, Ltd. in the above-referenced docket.

The EA was prepared to satisfy the requirements of the National Environmental Policy Act. The staff concludes that approval of the proposed Kanda Lateral and Mainline Expansion Project, with appropriate mitigating measures, would not constitute a major federal action significantly affecting the quality of the human environment.

The BLM is participating as a cooperating agency in the preparation of the EA because the project would cross federal lands under BLM administration in Utah and Wyoming. The EA will be used by the BLM to consider the issuance of a right-of-way grant for the portion of the project on Federal lands.

The EA assesses the potential environmental effects of the construction and operation of the proposed project. The project is comprised of two components. The first component includes 123.7 miles of 24-inch-diameter pipeline commencing at a new interconnect in Uintah County, Utah and traversing in a northerly direction through Daggett County, Utah to a proposed interconnect in Sweetwater County, Wyoming. The second component involves the installation of two compressor units at the existing Wamsutter Compressor Station located in Sweetwater County, Wyoming. The proposed pipeline would deliver up to 400,000 decatherms per day to Kerr-McGee Corporation in response to increasing gas production in the Uintah Basin in eastern Utah to West, Central, and Eastern markets. Additional pipeline facilities would consist of pig launchers/receivers, meter stations and associated interconnects, and mainline block valves.

The EA has been placed in the public files of the FERC. A limited number of copies of the EA are available for distribution and public inspection at: Federal Energy Regulatory Commission, Public Reference Room, 888 First Street, NE., Room 2A, Washington, DC 20426, (202) 502-8371.

Copies of the EA have been mailed to federal, state and local agencies, public interest groups, Native American tribes, interested individuals, local libraries, newspapers, and parties to this proceeding.

Any person wishing to comment on the EA may do so. To ensure consideration prior to a Commission decision on the proposal, it is important that we receive your comments before the date specified below.

Please note that the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Sign-up”.

If you are filing written comments, please carefully follow these instructions to ensure that your comments are received in time and properly recorded:

• Send an original and two copies of your comments to: Philis J. Posey, Acting Secretary, Federal Energy Regulatory Commission, 888 First St., NE., Room 1A, Washington, DC 20426;

• Reference Docket No. CP07-14-000;

• Label one copy of the comments for the attention of the Gas Branch 1, PJ-11.1, and

• Mail your comments so that they will be received in Washington, DC on or before April 30, 2007.

Comments will be considered by the Commission but will not serve to make the commentor a party to the proceeding. Any person seeking to become a party to the proceeding must file a motion to intervene pursuant to Rule 214 of the Commission's Rules of Practice and Procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at 1-866-208-FERC or on the FERC Internet Web site (www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to www.ferc.gov/esubscribenow.htm.

Information concerning the involvement of the BLM is available from Mark A. Mackiewicz, National Project Manager, at (435) 636-3616.

Philis J. Posey,
Acting Secretary.

[FR Doc. E7-6316 Filed 4-4-07; 8:45 am]

BILLING CODE 6717-01-P